DEPARTMENT OF THE INTERIOR

National Park Service

Draft Environmental Impact Statement/Mountain Lakes Fishery Management Plan; North Cascades National Park Service Complex; Whatcom, Skagit and Chelan Counties, WA; Notice of Availability

Summary: Pursuant to section 102(c) of the National Environmental Policy Act of 1969 (Pub. L. 91-190, as amended), the National Park Service in cooperation with the Washington State Department of Fish and Wildlife has prepared a Draft Environmental Impact Statement (DEIS) and Mountain Lakes Fishery Management Plan. The DEIS identifies and evaluates four alternatives for management of non-native fish in the natural mountain lakes within North Cascades National Park Service Complex and the Stephen Mather Wilderness. Appropriate mitigation strategies are assessed, and an “environmentally preferred” alternative is also identified. When approved, the Mountain Lakes Fishery Management Plan (Plan) will govern all fishery management actions, including potential removal of self-sustaining populations of non-native fish and fish stocking.

Background: The National Park Service (NPS) manages North Cascades National Park, Lake Chelan National Recreation Area, and Ross Lake National Recreation Area collectively as the North Cascades National Park Service Complex (hereafter referred to as “North Cascades”). The Congressionally designated Stephen Mather Wilderness covers ninety-three percent of North Cascades. The rugged, wilderness landscape of North Cascades contains 240 natural mountain lakes. The lakes are naturally fishless due to impassable topographic barriers. Though naturally barren of fish, these lakes contain a rich array of native aquatic life including plankton, aquatic insects, frogs and salamanders.

In the late 1800's, settlers began stocking lakes within the present-day boundaries of North Cascades with various species of non-native trout for food and recreation. By the 20th century, fish stocking was a routine lake enhancement practice for the U.S. Forest Service, various counties, and individuals. Then upon its inception in 1933, the Washington Department of Game (WDG; now the Washington Department of Fish and Wildlife, or WDFW) assumed responsibility for stocking mountain lakes throughout the state to create and maintain a recreational fishery. The state's involvement grew largely out of the need to prevent haphazard stocking by individuals without biological expertise. With particular emphasis on systematic assessment of fish species and stocking rates, the WDG conducted the first high lakes fisheries research and developed many principles central to fisheries management today.

After North Cascades was established in 1968, a conflict over fish stocking emerged between the NPS and WDFW. The conflict was driven by fundamental policy differences: NPS policies prohibited stocking so as to protect native ecosystems; WDFW policies encouraged stocking to enhance recreation. To reconcile the conflict and foster cooperative management, the NPS and WDFW entered into a fisheries management agreement in 1988 with the purpose of “establishing a mutually agreed to list of lakes within the boundaries of North Cascades National Park which the department [would] stock with fish as part of its fish management program.” The agreement identified 40 lakes for stocking and specified that “research results [would] be considered in future decisions”.

Shortly thereafter, the NPS initiated a long-term research effort through Oregon State University to evaluate the ecological effects of fish stocking on native biota in mountain lakes. To ensure objectivity and scientific merit, an independent peer review panel of subject matter experts was established to evaluate research results. The final phase of this research effort was completed in July, 2002. The complete research results are posted on the Plan/DEIS Web site (http://www.nps.gov/noca/highlakes.htm), however key conclusions include:

• Lakes with high densities of self-sustaining (i.e., reproducing) trout populations had significantly fewer salamanders and zooplankton than fishless lakes;

• There was no significant difference in salamander or zooplankton abundance between fishless lakes and lakes with stocked (i.e., non-reproducing) fish;

• Native biota (e.g., salamanders, zooplankton) appeared to be at greatest risk in lakes with (1) relatively high nitrogen concentrations, (2) relatively warm water and (3) self-sustaining trout populations present in high densities. These risk factors were found in six of the 83 lakes studied.

Purpose and Need: The purpose of the Plan/DEIS is to develop a comprehensive management plan for natural mountain lakes that conserves native biological integrity and provides a spectrum of recreational opportunities and visitor experiences, including sport fishing. The Plan/DEIS is needed to resolve the long-standing debate and conflicts over fish stocking in the naturally fishless mountain lakes in North Cascades.

In most NPS units, natural resources (including lakes and fish) are managed in accord with the Organic Act of 1916 and in concert with NPS management policies which allow sport fishing unless it is specifically prohibited. NPS policies, however, prohibit fish stocking in most NPS waters. In North Cascades, fish have historically been managed by a combination of agencies and user groups. This is partly because the enabling legislation for North Cascades does not define angling activities that would be allowed within its boundaries, and partly because the area has a history of fish management by WDFW and affiliated sport fishing groups (whose practices pre-date the 1968 establishment of North Cascades by many years).

The lakes that are the focus of this Plan/DEIS are the 91 mountain lakes (out of 240 lakes) that were once naturally fishless but have had some history of fish stocking since the late 1800's. Due to differences in missions and policies between the NPS and WDFW, the two agencies drafted a Memorandum of Understanding in 1985, and a Supplemental Agreement in 1988 that established a mutually agreed to list of lakes in the National Park portion of the Complex that WDFW would stock with fish as part of its fish management program while further studies into the ecological effects of non-native fish in mountain lakes were conducted. A long term research study was then initiated. Before the research could be completed, the North Cascades Conservation Council challenged the NPS in court on its decision to allow fish stocking to continue or reproducing populations of fish to remain. In a 1991 Consent Decree, the U.S. District Court (Western District of Washington) indicated the NPS should complete its research and then “conduct a NEPA [National Environmental Policy Act] review of the fish stocking of naturally fish-free lakes.” The research was completed in July 2002 by a team that included scientists from the U.S. Geological Survey (Biological Resources Division) and Oregon State University. This Plan/DEIS was initiated upon completion of the research, and initiates the conservation planning and environmental impact analysis process required by the 1991 Consent Decree.

Primary Issues: Key issues which were addressed in preparing the DEIS/Plan included:

• Predation and Competition. Non-native fish have measurably changed composition and abundance of native aquatic organisms in some lakes, with the most significant impacts caused by reproducing populations of stocked fish that have become self-sustaining.

• Hybridization with Native Fish. Non-native fish are dispersing downstream from some lakes and hybridizing (i.e., interbreeding) with native fish, which could harm bull trout (federally Threatened), westslope cutthroat trout and other native trout populations.

• Conflicting Social/Wilderness Values. Some stakeholders strongly oppose the management of a non-native fishery in national park/wilderness lakes that were naturally fishless. Others believe that the mountain lakes fishery provides an unparalleled opportunity for high lakes fishing that cannot be duplicated elsewhere.

• Legislative ambiguity: The enabling legislation and legislative history for North Cascades are not clear with respect to fish stocking, thus the NPS believes an affirmative legislative clarification from Congress would be needed in order to justify continued fish stocking in naturally fishless mountain lakes in the North Cascades/Stephen Mather Wilderness.

Proposed Plan and Alternatives: As the proposed Mountain Lakes Fishery Management Plan, Alternative B (the “agency preferred” alternative) would implement an adaptive management framework for allowing continued stocking of select lakes with a history of fish stocking. To minimize ecological risks, sterile trout incapable of reproducing would be stocked at low densities to provide continued angling opportunities. Self-sustaining populations of trout would be removed from all lakes (where feasible) using gill-nets in combination with electrofishing, spawning habitat exclusion, and application of the piscicide antimycin. Fishery management actions would be monitored and evaluated to enable adaptive management and ensure conservation of biological integrity. Implementation of this Alternative would require affirmative clarification from Congress regarding the appropriateness of continued fish stocking in the North Cascades/Stephen Mather Wilderness.

Alternative A (the “No Action” alternative) provides a baseline for analyzing and comparing the three “action” alternatives. Under this alternative, fishery management actions would continue in accord with the terms and conditions of the 1988 Supplemental Agreement with the WDFW. This agreement provides for continued stocking of select lakes in North Cascades National Park. Continued implementation of this alternative would require clarification from Congress regarding the appropriateness of continued fish stocking in the North Cascades/Stephen Mather Wilderness.

Alternative C would include continued maintenance of the mountain lakes sport fishery (i.e., fish stocking) in select lakes in Ross Lake National Recreation Area and Lake Chelan National Recreation Area. Fish stocking would be discontinued in North Cascades National Park. Otherwise, the adaptive management framework for Alternative C would be similar to Alternative B. Alternative C would conform to NPS policies regarding fish stocking in National Recreation Area waters. However, Alternative C would still require clarification from Congress regarding the appropriateness of continued fish stocking in the Stephen Mather Wilderness.

Alternative D would discontinue fish stocking in all mountain lakes in North Cascades. This alternative would establish a long-term goal of removing, wherever feasible, self-sustaining populations of non-native trout in approximately 37 lakes using the removal methods described for Alternative B.

Scoping History: Public scoping formally began on January 16, 2003, with the Federal Register publication of the Notice of Intent to prepare an environmental impact statement. A news release for the public scoping meetings was sent on February 14, 2003 to 12 local and regional news media. A public scoping brochure was mailed in early March 2003 to a comprehensive list of government agencies, organizations, businesses, and individuals. In late March 2003, the NPS and WDFW held four public scoping meetings in the surrounding communities of Sedro-Woolley, Wenatchee, Bellevue and Seattle. The NPS received 248 comments during the public scoping period, which formally concluded on April 18, 2004. A public scoping report is available on the park's project Web site: (http://www.nps.gov/noca/highlakes.htm).

Comments and Public Meetings: The public review and comment period will extend 90 days from the date the EPA publishes its notice of filing of the Plan/DEIS in the Federal Register. Immediately upon confirmation, this date will be announced on the park's project Web site. The Plan/DEIS will be mailed directly to those who requested copies during public scoping, and may be downloaded from the project Web site and on CD-ROM. Copies will also be available for review at park headquarters in Sedro-Woolley, the main visitor center in Newhalem, and at local and regional libraries. Printed or CD-ROM copies may also be requested by telephone (360) 856-5700 ext.351. In addition, a Public Comment Newsletter will be distributed. All comments must be submitted in writing and postmarked or transmitted not later than 90 days from the date EPA publishes their notice of filing. Responses should be addressed to: Superintendent, Attn: Draft EIS/Mountain Lakes Fishery Management Plan, North Cascades National Park Service Complex, 810 State Route 20, Sedro Woolley, WA 98284. Reviewers are encouraged to submit comments, ideas or questions on-line at the PEPC Web site (http://parkplanning.nps.gov); search under park name for North Cascades National Park to find the Plan/EIS and an on-line comment form. Written comments may also be faxed to (360) 856-1934, or submitted at one of the public meetings (see below).

Please note that names and addresses of people who comment become part of the public record. If individuals commenting request that their name or/and address be withheld from public disclosure, it will be honored to the extent allowable by law. Such requests must be stated prominently in the beginning of the comments. There also may be circumstances wherein the NPS will withhold from the administrative record a respondent's identity, as allowable by law. As always: The NPS will make available to public inspection all submissions from organizations or businesses and from persons identifying themselves as representatives or officials of organizations and businesses; and, anonymous comments may not be considered.

To facilitate exchange of information and public understanding of the proposal, the NPS in coordination with the Washington Department of Fish and Wildlife will host public meetings in Sedro-Woolley, Wenatchee, and the Seattle area. At this time several meetings are expected to be held during summer 2005—a schedule of confirmed dates, locations and times will be announced via the Public Comment Newsletter, local and regional news media, and the park's project Web site; or may be obtained by telephone at (360) 856-5700 ext.351.

Participants are strongly encouraged to review the document prior to attending a meeting. The Superintendent of North Cascades and planning team members, including WDFW personnel will attend all meetings. The format will be the same for all meetings, and will include a brief presentation on the essential elements of the Plan/DEIS and a question and answer period. Brief oral comments and written comments will also be received. All meeting locations will be accessible for disabled persons, and a sign language interpreter may be available upon request with prior notice (please contact the park as noted above).

Decision: Following careful consideration of all comments received on the Plan/DEIS, completion of the Final Mountain Lakes Fishery Management Plan/Final Environmental Impact Statement is anticipated for spring 2006 (actual timing will depend upon the degree of public interest and response from agencies and organizations). Thereafter the Record of Decision would be completed not sooner than 30 days after the Final EIS is distributed. As a delegated EIS, the official responsible for the final decision is the Regional Director, Pacific West Region; subsequently, the official responsible for implementation will be the Superintendent, North Cascades National Park Service Complex.

Dated: March 23, 2005.
Martha K. Leicester,
Acting Regional Director, Pacific West Region.

[FR Doc. 05-10729 Filed 5-27-05; 8:45 am]

BILLING CODE 4312-52-P